DEPARTMENT OF ENERGY

Federal Energy Regulatory Commission

[Docket No. EC04-103-000, et al.]

TECO Wholesale Generation, Inc., et al.; Electric Rate and Corporate Filings

May 7, 2004.

The following filings have been made with the Commission. The filings are listed in ascending order within each docket classification.

1. TECO Wholesale Generation, Inc.

[ Docket No. EC04-103-000]

Take notice that on May 4, 2004, TECO Wholesale Generation, Inc. (TWG) filed with the Commission an application pursuant to section 203 of the Federal Power Act requesting authorization to engage in a corporate reorganization that will alter the intermediate upstream ownership of certain facilities subject to the Commission's jurisdiction. TWG states that the transaction will have no adverse effect on competition, rates or regulation.

Comment Date: May 26, 2004.

2. Tampa Electric Company

[Docket No. ER03-48-002]

Take notice that on April 30, 2004, Tampa Electric Company (Tampa Electric) tendered the following tariff sheets for inclusion in its open access transmission tariff (FERC Electric Tariff, Second Revised Volume No. 4):

Second Revised Sheet No. 76;

Second Revised Sheet No. 91;

Second Revised Sheet No. 92;

Second Revised Sheet No. 119.

Tampa Electric states that the tariff sheets contain revised rates under Schedules 1, 7, and 8 and Attachment H of the open access tariff that were approved as part of the settlement agreement in Docket No. ER03-48-000, and are submitted in compliance with that settlement agreement. Tampa Electric proposes that the tariff sheets be made effective on June 1, 2004.

Tampa Electric states that copies of the compliance filing have been served on the parties to the proceeding in Docket No. ER03-48-000, the customers under Tampa Electric's open access tariff, and the Florida Public Service Commission.

Comment Date: May 21, 2004.

3. New England Power Pool

[Docket No. ER04-781-000]

Take notice that on April 30, 2004, the New England Power Pool (NEPOOL) Participants Committee filed for acceptance materials to: (1) Permit NEPOOL to expand its membership to include J&L Electric (J&L) and New Jersey Machine Inc. (NJM); and (2) terminate the memberships of AllEnergy Marketing Company, LLC (AllEnergy), Reliant Energy Services, Inc. (Reliant), Readsboro Electric Department (Readsboro), and Village of Johnson, Vermont Electric Light Department (Johnson). The Participants Committee requests the following effective dates: April 1, 2004 for the termination of Reliant; and May 1, 2004 for commencement of participation in NEPOOL by J&L and NJM and the terminations of AllEnergy, Readsboro, and Johnson.

Participants Committee states that copies of these materials were sent to the New England state governors and regulatory commissions and the Participants in NEPOOL.

Comment Date: May 21, 2004.

4. Commonwealth Edison Company PJM Interconnection, LLC.

[Docket No. ER04-718-001]

Take notice that on April 30, 2004, Commonwealth Edison Company (ComEd) and PJM Interconnection, LLC. (PJM) submitted for filing an executed Service Agreement entered into between ComEd and PJM under PJM's Open Access Transmission Tariff (OATT). ComEd requests an effective date of May 1, 2004 for the Service Agreement.

ComEd states that copies of the filing were served upon persons on the service list in this docket.

Comment Date: May 21, 2004.

5. California Power Exchange Corporation

[Docket No. ER04-785-000]

Take notice that on April 30, 2004, the California Power Exchange Corporation (CalPX) tendered for filing its Rate Schedule for Rate Period 5, the period from July 1, 2004 through December 31, 2004. CalPX files this Rate Schedule pursuant to the Commission's Orders of August 8, 2002 (100 FERC ¶ 61,178) in Docket No. ER02-2234-000, and April 1, 2003 (103 FERC ¶ 61,001) issued in Docket Nos. EC03-20-000 and EC03-20-001, which require CalPX to make a new rate filing every six months to recover current expenses. CalPX states that the Rate Schedule therefore covers expenses projected for the period July 1, 2004 through December 31, 2004, and CalPX requests an effective date of July 1, 2004.

CalPX states that it has served copies of the filing on its participants, on the California ISO, and on the California Public Utilities Commission.

Comment Date: May 21, 2004.

6. Tampa Electric Company

[Docket No. ER04-786-000]

Take notice that on April 30, 2004, Tampa Electric Company (Tampa Electric) tendered for filing revised rate schedule sheets containing updated transmission service rates under its agreements to provide qualifying facility transmission service for Cargill Fertilizer, Inc. (Cargill) and Auburndale Power Partners, Limited Partnership (Auburndale). Tampa Electric proposes that the revised sheets containing the updated transmission service rates be made effective on May 1, 2004, and therefore requests waiver of the Commission's notice requirement.

Tampa Electric states that copies of the filing have been served on Cargill, Auburndale, and the Florida Public Service Commission.

Comment Date: May 21, 2004.

7. Tampa Electric Company

[Docket No. ER04-787-000]

Take notice that on April 30, 2004, Tampa Electric Company (Tampa Electric) tendered for filing revised rate schedule sheets containing updated caps on energy charges for emergency assistance service under its interchange service contract with Alabama Power Company, Georgia Power Company, Gulf Power Company, Mississippi Power Company, and Savannah Electric and Power Company, as represented by agent Southern Company Services, Inc. (collectively, Southern Companies). Tampa Electric requests that the revised rate schedule sheets be made effective on May 1, 2004, and therefore requests waiver of the Commission's notice requirement.

Tampa Electric states that a copy of the filing has been served upon Southern Companies and the Florida Public Service Commission.

Comment Date: May 21, 2004.

8. Tampa Electric Company

[Docket No. ER04-788-000]

Take notice that on April 30, 2004, Tampa Electric Company (Tampa Electric) tendered for filing an amended service agreement with Calpine Energy Services, LP (Calpine) for firm point-to-point transmission service under Tampa Electric's open access transmission tariff. Tampa Electric requests that the amended service agreement be made effective on June 1, 2004.

Tampa Electric states that copies of the filing have been served on Calpine and the Florida Public Service Commission.

Comment Date: May 21, 2004.

9. Wabash Valley Power Association, Inc.

[Docket No. ER04-789-000]

Take notice that on April 30, 2004, Wabash Valley Power Association, Inc. (Wabash Valley) tendered for filing its initial rate filing, consisting of a Formulary Rate Tariff for service to each of its Member cooperatives. Wabash Valley states that it will become a FERC-jurisdictional public utility on July 1, 2004, by virtue of its repurchase of its outstanding U.S. Department of Agriculture Rural Utilities Service debt. Wabash also states that in compliance with section 205 of the Federal Power Act (16 U.S.C. 824d), Wabash Valley is filing with the Commission all of its rates, terms and conditions of service.

Wabash states that copies of this filing were served upon Wabash Valley's Members and the public utility commissions in Illinois, Indiana, Michigan and Ohio.

Comment Date: May 21, 2004.

10. New York Independent System Operator, Inc.

[Docket No. ER04-791-000]

Take notice that on April 30, 2004, the New York Independent System Operator, Inc. (NYISO) filed proposed interim scheduling procedures for External Transactions at the Shoreham Proxy Generator Bus. NYISO is requesting permission to make the filing effective between June 22 and July 6, 2004, subject to its satisfying certain notice requirements specified in the filing.

NYISO states that it has served a copy of this filing upon all parties that have executed Service Agreements under the NYISO's Open-Access Transmission Tariff or Services Tariff, ISO New England Inc., the New York State Public Service Commission and the electric utility regulatory agencies in New Jersey and Pennsylvania.

Comment Date: May 21, 2004.

11. California Independent System Operator Corporation

[Docket No. ER04-793-000]

Take notice that on April 30, 2004, California Independent System Operator Corporation (ISO) tendered for filing a proposed amendment (Amendment No. 59) to the ISO Tariff. The ISO states that Amendment No. 59 provides standards for dynamic scheduling of imports of Energy and Ancillary Services. ISO requests that the provisions of Amendment No. 59 be put into effect 60 days from the date of this filing, i.e., on June 29, 2004, with the exception of the proposed revision to the definition of Tolerance Band which will be made effective in accordance with the orders on MD02 Phase 1B.

ISO states that copies this filing has been served on the Public Utilities Commission of California, the California Energy Commission, the California Electricity Oversight Board and on all parties with effective Scheduling Coordinator Service Agreements under the ISO Tariff.

Comment Date: May 21, 2004.

12. Entergy Services, Inc.

[Docket No. ER04-795-000]

Take notice that on April 30, 2004, Entergy Services, Inc., (Entergy) on behalf of Entergy Arkansas, Inc., tendered for filing an unexecuted, amended and restated Interconnection and Operating Agreement with Plum Point Energy Associates, LLC (Plum Point), and an updated Generator Imbalance Agreement with Plum Point.

Comment Date: May 21, 2004.

13. PJM Interconnection, L.L.C.

[ Docket No. ER04-796-000]

Take notice that on April 30, 2004, PJM Interconnection, L.L.C. (PJM), tendered for filing an unexecuted service agreement for non-firm point-to-point transmission service with Exelon Generation Company, L.L.C., (ExGen) for use solely in connection with a dynamic schedule, in an amount not to exceed 35 MW, to the Hannibal, Ohio facility of Ormet Primary Aluminum Corporation. PJM states that consistent with the Commission's order issued on April 27, 2004 (107 FERC ¶ 61,087) establishing May 1, 2004 as the effective date for ComEd's integration, PJM requests that the enclosed agreement be accepted effective May 1, 2004, and therefore requests waiver of the 60-day notice requirement.

PJM states that copies of this filing were served upon ExGen and the state commissions in the PJM region.

Comment Date: May 21, 2004.

14. ISO New England Inc.

[Docket No. ER04-798-000]

Take notice that on April 30, 2004, ISO New England Inc. (ISO) submitted notice to the Commission regarding the correction of Day-Ahead Energy Market results for April 19, 2004 and an application pursuant to section 205 of the Federal Power Act to revise Market Rule 1 to address the events of April 19, 2004 and other such situations.

ISO states that copies of the filing have been served on all NEPOOL Participants, and the Governors and utility regulatory agencies of the New England States.

Comment Date: May 21, 2004.

15. Southwest Power Pool, Inc.

[ER04-799-000]

Take notice that on April 30, 2004, Southwest Power Pool, Inc. (SPP) submitted for filing an executed service agreement for Network Integration Transmission Service and an executed Network Operating Agreement with Kansas Electric Power Cooperative, Inc. (KEPCO). SPP states that it seeks an effective date of April 1, 2004 for the service agreement.

SPP states that it has served KEPCO with a copy of this filing.

Comment Date: May 21, 2004.

16. Midwest Independent Transmission System Operator, Inc.

[Docket No. ER04-800-000]

Take notice that on April 30, 2004, Midwest Independent Transmission System Operator, Inc. (ISO) pursuant to section 205 of the Federal Power Act and section 35.12 of the Commission's regulations, 18 CFR 35.12 (2003), submitted for filing a Facilities Construction Agreement among Louisville Gas and Electric Company and Kentucky Utilities, the Midwest ISO and Cinergy Services, Inc., acting as agent for and on behalf of its operating company, PSI Energy, Inc.

ISO states that a copy of this filing was served on all parties.

Comment Date: May 21, 2004.

17. Commonwealth Edison Company

[Docket No. ER04-801-000]

Take notice that on April 30, 2004, Commonwealth Edison Company (ComEd) tendered for filing an executed Standard Large Generator Interconnection Agreement between ComEd and Indeck-Elwood, L.L.C., for Indeck's Elwood Energy Center generating facility, located in Elwood, Illinois. ComEd requests that the Commission accept the LGIA for filing as a service agreement under the PJM OATT effective as of May 1, 2004.

Comment Date: May 21, 2004.

18. Wisconsin Electric Power Company

[Docket No. ER04-804-000]

Take notice that on April 30, 2004, Wisconsin Electric Power Company (Wisconsin Electric) tendered for filing a proposed amendment to an agreement with Alliant Energy Corporation (Alliant) pursuant to which Wisconsin Electric provides Alliant wholesale distribution export service. Wisconsin Electric states that the purpose of the amendment is to extend the term of the agreement and to increase the rate Wisconsin Electric charges for the service which is provided under Wisconsin Electric's Rate Schedule FERC No. 102.

Wisconsin Electric states that copies of this filing have been served upon Alliant, the Michigan Public Service Commission and the Public Service Commission of Wisconsin.

Comment Date: May 21, 2004.

19. Wabash Valley Power Association

[Docket No. ER04-805-000]

Take notice that on April 30, 2004, Wabash Valley Power Association (Wabash Valley) submitted an Application for Market-Based Rate Authority. Wabash Valley states that it will become a FERC-jurisdictional public utility on July 1, 2004, by virtue of its repurchase of its outstanding U.S. Department of Agriculture Rural Utilities Service debt. Therefore, in compliance with section 205 of the Federal Power Act (16 U.S.C. 824d), Wabash Valley is requesting such authority, effective July 1, 2004.

Wabash Valley states that copies of this filing were served upon Wabash Valley's Members and the public utility commissions in Illinois, Indiana, Michigan and Ohio.

Comment Date: May 21, 2004.

20. Unitil Power Corp.

[Docket No. ER04-806-000]

Take notice that on April 29, 2004, Unitil Power Corp. (Unitil System) tendered for filing pursuant to Attachment 1 to Rate Schedule FERC No. 1, the Amended Unitil System Agreement, Appendix I, section D, the following material: (1) Statement of all sales and billing transactions under Supplement No. 1 to Rate Schedule FERC No. 1, the Unitil System Agreement, for the period January 1, 2003 through April 30, 2003 along with the actual costs incurred by Unitil Power Corp. by FERC account; (2) statement of all billing transactions under the Amended Unitil System Agreement for the period May 1, 2003 through December 31, 2003 along with the actual costs incurred by Unitil Power Corp. by FERC account, including the calculation of Contract Release Payments and Administrative Service Charges, and (3) Unitil Power Corp. rates billed from January 1, 2003 to April 30, 2003 and supporting rate development, under the Unitil System Agreement.

Unitil Power Corp. states that a copy of the filing was served upon the New Hampshire Public Utilities Commission.

Comment Date: May 21, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1162 Filed 5-14-04; 8:45 am]

BILLING CODE 6717-01-P